DEPARTMENT OF ENERGY

Federal Energy Regulatory Commission

[Project No. 13563-003]

Juneau Hydropower, Inc.; Notice of Environmental Site Review

On Tuesday, August 26, 2014, and Wednesday, August 27, 2014, at 8 a.m. Alaska Time Zone, Commission staff will be participating in an environmental site review (site review) for the Sweetheart Lake Hydroelectric Project in the City and Borough of Juneau, Alaska. The site review will consist of both a boat and aerial tour of the project site. All interested individuals, organizations, and agencies are invited to attend. Anyone with questions about the site review should contact Duff Mitchell of Juneau Hydropower, Inc. at 907-789-2775. Those individuals planning to participate in the site review should notify Mr. Mitchell of their intent no later than August 18, 2014.

Dated: August 5, 2014.
Kimberly D. Bose,
Secretary.

[FR Doc. 2014-18947 Filed 8-8-14; 8:45 am]

BILLING CODE 6717-01-P